DEPARTMENT OF COMMERCE

International Trade Administration

[A-570-868]

Folding Metal Tables and Chairs: Notice of Partial Rescission of Antidumping Duty Administrative Review

AGENCY: Import Administration, International Trade Administration, Department of Commerce.

SUMMARY: In response to requests from interested parties, the Department of Commerce (“the Department”) initiated an administrative review of the antidumping duty order on folding metal tables and chairs (“FMTCs”) from the People's Republic of China (“PRC”), covering the period June 1, 2005, through May 31, 2006. Based on the withdrawal of the request for review with respect to one company, we are rescinding this administrative review, in part.

DATES: Effective Date: September 27, 2006.

FOR FURTHER INFORMATION CONTACT: Charles Riggle, Laurel LaCivita, or Matthew Quigley, Import Administration, Room 1870, International Trade Administration, U.S. Department of Commerce, 14th Street and Constitution Ave, NW, Washington, DC 20230; telephone: (202) 482-0650, (202) 482-4243, and (202) 482-4551, respectively.

Background

On June 2, 2006, the Department of Commerce (“the Department”) published a notice of opportunity to request an administrative review of the antidumping duty order on FMTCs from the PRC. See Antidumping or Countervailing Duty Order, Finding, or Suspended Investigation; Opportunity To Request Administrative Review, 71 FR 32032 (June 2, 2006). We received timely requests for review from DongGuan ShiChang Metals Factory Ltd./Maxchief Investments, Ltd. (“Shichang”), Feili Furniture Development Limited Quanzhou City, Feili Furniture Development Co., Ltd., Feili Group (Fujian) Co., Ltd., Feili (Fujian) Co., Ltd (collectively “Feili”), and New-Tec Integration (Xiamen) Co., Ltd. (“New-Tec”).

On July 27, 2006, the Department published a notice of the initiation of the antidumping duty administrative review of FMTCs from the PRC for the period June 1, 2005, through May 31, 2006. See Initiation of Antidumping and Countervailing Duty Administrative Reviews and Request for Revocation in Part, 71 FR 42626, 42627 (July 27, 2006). On July 28, 2006, Shichang withdrew its request for an administrative review.

Rescission of Review

The Department's regulations, at 19 CFR 351.213(d)(1), provide that the Department will rescind an administrative review if the party that requested the review withdraws its request for review within 90 days of the date of publication of the notice of initiation of the requested review, or withdraws its request at a later date if the Department determines that it is reasonable to extend the time limit for withdrawing the request. Shichang, the only party to request a review for this company, withdrew its request within the 90-day limit. Therefore, we are rescinding this review of the antidumping duty order on FMTCs from the PRC covering the period June 1, 2005, through May 31, 2006, with respect to Shichang.

Assessment

The Department will instruct U.S. Customs and Border Protection (“CBP”) to assess antidumping duties on all appropriate entries. For the company for which this review is rescinded, antidumping duties shall be assessed at rates equal to the cash deposit of estimated antidumping duties required at the time of entry, or withdrawal from warehouse, for consumption, in accordance with 19 CFR 351.212(c)(1)(i). The Department will issue appropriate assessment instructions directly to CBP within 15 days of publication of this notice.

Notification Regarding APOs

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction. This notice is issued and published in accordance with section 777(i)(1) of the Tariff Act of 1930, as amended, and 19 CFR 351.213(d)(4).

Dated: September 20, 2006.
Stephen J. Claeys,
Deputy Assistant Secretary for Import Administration.

[FR Doc. E6-15862 Filed 9-26-06; 8:45 am]

BILLING CODE 3510-DS-P